ENVIRONMENTAL PROTECTION AGENCY

[EPA-HQ-OPP-2010-0012; FRL-8823-2]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before June 18, 2010.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 9E7650. (EPA-HQ-OPP-2010-0186). Nissan Chemical Industries, Inc., 3-7-1, Kanda Nishiki-cho, Chiyoda-ku, Tokyo, Japan c/o Lewis & Harrison, 122 C Street, NW., Suite 740, Washington, DC 20001, proposes to establish import tolerances in 40 CFR part 180 for residues of amisulbrom, 3-[3-bromo-6-fluoro-2-methyl-H-indol-1-yl)sulfonyl]-N,N-dimethyl-1H - 1,2,4-triazole-1-sulfonamide, in or on grapes at 0.4 parts per million (ppm) and raisins at 1.0 ppm. The proposed tolerance will be a tolerance on treated grapes and its processed products treated in Western Europe and imported into the U.S. There will be no U.S. registration. Liquid chromatography/tandem mass spectrographic detection (LC/MS/MS) is used for determination and quantification of amisulbrom from grape field and grape processing (raisin, juice, and wine) data. The limit of quantitation is 0.01 ppm. A successful independent laboratory method validation was conducted for the grape data collection method. Contact: Olga Odiott, (703) 308-9369, e-mail address: odiott.olga@epa.gov.

2. PP 9E7675. (EPA-HQ-OPP-2010-0063). Interregional Research Project Number 4 (IR-4), IR-4 Project Headquarters, Rutgers, The State University of New Jersey, 500 College Rd. East, Suite 201 W, Princeton, NJ 08450, proposes to establish tolerances in 40 CFR part 180 for residues of the miticide/ovicide etoxazole, 2-(2,6-difluorophenyl)-4-[4-(1,1-dimethylethyl)-2-ethoxyphenyl]-4,5-dihydrooxazole, in or on peppers, African eggplant, eggplant, martynia, okra, pea eggplant, pepino, roselle, and scarlet eggplant at 0.20 ppm; Crop Group 9: cucurbit vegetables at 0.20 ppm; Subgroup 13-07A: Caneberry at 1.1 ppm; Subgroup 13-07F: Small fruit vine climbing subgroup except fuzzy kiwi at 0.50 ppm; Subgroup 13-07G: Low-growing berry subgroup at 0.50 ppm and avocado, papaya, star apple, black sapote, mango, sapodilla, canistel, and mamey sapote at 0.20 ppm; and tea at 15 ppm. Practical analytical methods for detecting and measuring levels of etoxazole have been developed and validated in/on all appropriate agricultural commodities and respective processing fractions. The limit of quantitation (LOQ) of etoxazole in the methods is 0.02 ppm which will allow monitoring of food with residues at the levels proposed for the tolerances. The Cumulative and Aggregate Risk Evaluation System (CARES) Version 2.0 was used to conduct these assessments. Contact: Andrew Ertman, (703) 308-9367, e-mail address: ertman.andrew@epa.gov.

3. PP 0F7689. (EPA-HQ-OPP-2010-0297). Arysta LifeScience North America, LLC. 15401 Weston Parkway, Cary, NC 27513, proposes to establish tolerances in 40 CFR part 180 for residues of kasugamycin, 3-O-[2-amino-4-[(carboxyiminomethyl)amino]-2,3,4,6-tetradeoxy-α-D-arabino-hexopyranosyl]-D-chiro-inositol, in or on fruiting vegetables (crop group 8 -fruiting vegetables - except cucumber) at 0.15 ppm; pome fruit (crop group 11- pome fruit) at 0.25 ppm; and walnuts at 0.04 ppm. A practical analytical method for detecting and measuring levels of kasugamycin has been developed and validated in all appropriate agricultural commodities. This analytical method is suitable for monitoring of food with residues at the levels proposed for the tolerances. The LOQ for this method is 0.04 ppm. An independent laboratory validation of the residue analytical method was successful. Contact: Shaunta Hill, (703) 347-8961, e-mail address: hill.shaunta@epa.gov.

4. PP 0F7690. (EPA-HQ-OPP-2010-0234). BASF Corporation, 26 Davis Dr., P.O. Box 13528, Research Triangle Park, NC 27709-3528, proposes to establish tolerances in 40 CFR part 180 for the combined residues of the insecticide alpha-cypermethrin and cypermethrin (including zeta-cypermethrin)((S)-α-cyano-3-phenoxybenzyl (1R,3R)-3-(2,2-dichlorovinyl)-2,2-dimethylcyclopropanecarboxylate and (R)-α-cyano-3-phenoxybenzyl (1S,3S)-3-(2,2-dichlorovinyl)-2,2-dimethylcyclopropanecarboxylate), in or on tree nuts, Group 14; dried shelled pea and bean, except soybean, subgroup 6C; corn, grain; pop corn; sweet corn; soybeans; and sugar beet, roots at 0.05 ppm; succulent shelled pea and bean, subgroup 6B; and root and tuber vegetables, Group 1 at 0.1 ppm; cucurbit vegetables, Group 9; fruiting vegetables, Group 8; sugar beet, tops; and wheat, grain at 0.2 ppm; citrus fruit, Group 10 at 0.35 ppm; cottonseed; edible podded legume vegetable, subgroup 6A; and sorghum, grain at 0.5 ppm; and rice, grain at 1.5 ppm; citrus, dried pulp at 1.8 ppm; head and stem brassica, subgroup 5A at 2.0 ppm; citrus, oil at 4.0 ppm; leafy vegetable, except brassica, Group 4 at 10 ppm; and alfalfa, hay at 15 ppm. There is a practical analytical method for detecting and measuring levels of cypermethrin in or on food with a limit of detection (LOD) that allows monitoring food with residues at or above the levels set in these tolerances. Gas chromatography with electron capture detection (GC/ECD) and LC/MS/MS methods are available. Contact: BeWanda Alexander, (703) 305-7460, e-mail address: alexander.bewanda@epa.gov.

5. PP 0F7695. (EPA-HQ-OPP-2010-0261). BASF Corporation, 26 Davis Dr., P.O Box 13528, Research Triangle Park, NC, 27709, proposes to establish tolerances in 40 CFR part 180 for residues of ametoctradin, 5-ethyl-6-octyl[1,2,4]triazolo[1,5-a]pyrimidin-7-amine, in or on brassica, head and stem, subgroup at 12 ppm; brassica, leafy greens, subgroup at 50 ppm; grape at 5 ppm; hop, dried cones at 9 ppm; onion, bulb, subgroup at 1.2 ppm; onion, green, subgroup at 16 ppm; raisin at 8 ppm; vegetable, fruiting, group at 2 ppm; vegetable, leafy, except brassica, group at 70 ppm; vegetable, cucurbit, group at 4.5 ppm; and vegetable, tuberous and corm, subgroup at 0.05 ppm. The proposed enforcement method for ametoctradin was fully validated. Ametoctradin is extracted with a mixture of methanol/water. An aliquot of the extract is centrifuged and partitioned against dichloromethane. The final determination of ametoctradin is performed by high performance liquid chromatography-mass spectrometry (HPLC-MS/MS). This method has an LOQ of 0.01 milligrams/kilograms (mg/kg) and is suitable for enforcement purposes. Contact: Shaunta Hill, (703) 347-8961, e-mail address: hill.shaunta@epa.gov.

6. PP 0F7703. (EPA-HQ-OPP-2010-0284). Monsanto Company, 1300 I Street NW., Suite 450 East, Washington DC 2005, a member of the Acetochlor Registration Partnership (ARP), proposes to establish a tolerance in 40 CFR part 180 for indirect or inadvertent residues of the herbicide acetochlor (2-chloro-2'-methyl-6'-ethyl-N-ethoxymethylacetanilide) and its metabolites containing either the 2-ethyl-6-methylaniline (EMA) or the 2-(1-hydroxyethyl)-6- methyl-aniline (HEMA) moiety, to be expressed as acetochlor equivalents, in or on the following raw agricultural commodity when present therein as a result of the application of acetochlor to the growing crops in paragraph (a) of 40 CFR 180.470; peanut at 0.03 ppm. An adequate enforcement method for residues of acetochlor in crops has been approved. Acetochlor and its metabolites are hydrolyzed to either EMA or HEMA, which are determined by HPLC-OCED and expressed as acetochlor equivalents. Contact: Susan Stanton, (703) 305-5218, e-mail address: stanton.susan@epa.gov.be determined by measuring residues of pyrasulfotole (AE0317309) (5-hydroxy-1,3-dimethyl-1H-pyrazol-4-yl)-[2-(methylsulfonyl)-4-(trifluoromethyl)phenyl]methanone and its metabolite (5-Hydroxy-3-methyl-1H-pyrazol-4-yl)-[2-(methylsulfonyl)-4-(trifluoromethyl)phenyl] methanone, calculated as the stoichiometric equivalent of pyrasulfotole in or on cattle, goat, hog, sheep, and horse meat at 0.04 ppm; cattle, goat, hog, sheep, and horse fat at 0.04 ppm; cattle, goat, hog, sheep, and horse, meat byproducts except liver at 2 ppm and cattle, goat, hog, sheep, and horse, liver at 8 ppm. The analytical method is an LC/MS/MS method which quantifies pyrasulfotole and its metabolite (5-Hydroxy-3-methyl-1H-pyrazol-4-yl)[2-(methylsulfonyl)-4-(trifluoromethyl)phenyl]methanone with an LOQ of 0.01 mg/kg. Contact: Bethany Benbow, (703) 347-8072, e-mail address: benbow.bethany@epa.gov.

7. PP 0G7682. (EPA-HQ-OPP-2010-0217). Valent U.S.A. Corporation, P.O. Box 8025, Walnut Creek, CA 94596 (as Agent for Sumitomo Chemical Co., Ltd), proposes to establish a time-limited tolerance in 40 CFR part 180 for residues of the insecticide clothianidin, (E)-1-(2-chloro-1,3-thiazol-5-ylmethyl)-3-methyl-2-nitroguanidine, in or on rice, grain at 0.01 ppm. Adequate enforcement methodology LC/MS/MS analysis is available to enforce the tolerance expression. Contact: Marianne Lewis, (703) 308-8043, e-mail address: lewis.marianne@epa.gov.

Amended Tolerances

PP 9E7675. (EPA-HQ-OPP-2010-0063). IR-4, IR-4 Project Headquarters, Rutgers, The State University of New Jersey, 500 College Rd. East, Suite 201 W, Princeton, NJ 08450, proposes to delete the established tolerances in 40 CFR 180.593 for residues of the miticide/ovicide etoxazole, 2-(2,6-difluorophenyl)-4-[4-(1,1-dimethylethyl)-2-ethoxyphenyl]-4,5-dihydrooxazole, in or on strawberry, grape, cucumber, and vegetable, cucurbit subgroup 9A since they will be covered by the proposed new tolerances in 2. under “New Tolerances” of this Unit. Contact: Andrew Ertman, (703) 308-9367, e-mail address: ertman.andrew@epa.gov.

New Tolerance Exemptions

1. PP 0E7686. (EPA-HQ-OPP-2010-0233). Dow Agrosciences, LLC, 9330 Zionsville Rd., Indianapolis, IN 46268, proposes to establish an exemption from the requirement of a tolerance for residues of choline hydroxide (CAS No. 123-41-1) under 40 CFR 180.920 when used as a pesticide inert ingredient in pesticide formulations. A limitation for use as a neutralizing agent in herbicide-only products is proposed. Based on the proposed use, the choline cation is the species of interest for end-use products. The petitioner believes no analytical method is needed because it is not required for an exemption from the requirement of a tolerance. Contact: Deirdre Sunderland, (703) 603-0851, e-mail address: sunderland.deirdre@epa.gov.

2. PP 0E7692. (EPA-HQ-OPP-2010-0231). Rhodia, Inc. c/o SciReg, Inc., 12733 Director's Loop, Woodbridge, VA 22192, proposes to establish an exemption from the requirement of a tolerance for residues of castor oil, ethoxylated, oleate (CAS No. 220037-02-5) with a minimum number average molecular weight (in amu) of 1,200 under 40 CFR 180.960 when used as an emulsifier and surfactant pesticide inert ingredient in pesticide formulations. Rhodia is requesting that castor oil, ethoxylated, oleate, with a minimum number average molecular weight (in amu) of 1,200 be exempt from the requirement of a tolerance based upon the definition of a low-risk polymer under 40 CFR 723.250. Therefore, Rhodia believes that an analytical method to determine residues in treated crops is not relevant. Contact: Karen Samek, (703) 347-8825, e-mail address: samek.karen@epa.gov.

3. PP 9E7648. (EPA-HQ-OPP-2010-0232). Exponent Inc., 1150 Connecticut Ave., NW., Suite 1100, Washington, DC 20036, on behalf of Plant Impact plc, 12 S. Preston Office Village, Cuerdan Way, Bamber Bridge, Preston, PR5 6BL, United Kingdom, proposes to establish a low risk polymer exemption from the requirement of a tolerance for residues of Castor oil, ethoxylated, dioleate (CAS No. 110531-96-9) under 40 CFR 180.960 when used as a pesticide inert ingredient with a surfactant function in pesticide formulations. The petitioner believes no analytical method is needed because it is not required for an exemption from the requirement of a tolerance. Contact: Deirdre Sunderland, (703) 603-0851, e-mail address: sunderland.deirdre@epa.gov.

4. PP 0F7695. (EPA-HQ-OPP-2010-0261). BASF Corporation, P.O. Box 13528, Research Triangle Park, NC, 27709, proposes to establish an exemption from the requirement of a tolerance for the metabolites of ametoctradin, M650F03, (7-amino-5-ethyl[1,2,4]triazolo[1,5-a]pyrimidine-6-y-l)acetic acid, and M650F04, 7-amino-5-ethyl[1,2,4]triazolo[1,5-a]pyrimidine-6-carboxylic acid in or on all food crops. The proposed enforcement method for ametoctradin was fully validated. Ametoctradin is extracted with a mixture of methanol/water. An aliquot of the extract is centrifuged and partitioned against dichloromethane. The final determination of ametoctradin is performed by high performance liquid chromatography-mass spectrometry (HPLC-MS/MS). This method has an LOQ of 0.01 mg/kg and is suitable for enforcement purposes. Contact: Shaunta Hill, (703) 347-8961, e-mail address: hill.shaunta@epa.gov.

List of Subjects

Environmental protection, Agricultural commodities, Feed additives, Food additives, Pesticides and pests, Reporting and recordkeeping requirements.

Dated: May 6, 2010.
Lois Rossi,
Director, Registration Division, Office of Pesticide Programs.

[FR Doc. 2010-11978 Filed 5-18-10; 8:45 am]

BILLING CODE 6560-50-S